DEPARTMENT OF JUSTICE

Antitrust Division

Premerger Notification Unit FTC Liaison Office (Premerger Notification Unit); Notice of Relocation

The Premerger Notification Office will be relocating from: Department of Justice, Antitrust Division, Office of Operations, Premerger Notification Unit, Patrick Henry Building, 601 D Street, NW., Room #10-013, Washington, DC 20530.

Effective Monday, September 27, 2004, the mailing address is: Department of Justice, Antitrust Division, Office of Operations, Premerger Notification Unit, 950 Pennsylvania Avenue, NW., Room #3335, Washington, DC 20530.

Do not use the 20530 zip code for FedEx airbills. For FedEx airbills, use the above address information, using the zip code 20004. The use of the 20530 zip code will result in a delay of the delivery of FedEx packages to our office.

Delivery of Premerger Notification & Report Forms and other materials to the Premerger Unit will be similar to current procedures in place at the Main Justice Building.

All telephone numbers will remain unchanged.

FOR FURTHER INFORMATION CONTACT: Elaine M. Gibbs or Maura Lee at (202) 514-2558.

Dorothy B. Fountain,
Deputy Director of Operations, Antitrust Division.

[FR Doc. 04-20528 Filed 9-9-04; 8:45 am]

BILLING CODE 4410-11-M